DEPARTMENT OF HEALTH AND HUMAN SERVICES

Centers for Disease Control and Prevention

[30Day-13-0852]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Prevalence Survey of Healthcare-Associated Infections (HAIs) in Acute Care Hospitals in the United States—Extension—(0920-0852 exp.5/31/13)—National Center for Emerging and Zoonotic Infectious Diseases, Centers for Disease Control and Prevention (CDC).

Background and Brief Description

Preventing healthcare-associated infections (HAIs) is a CDC priority. An essential step in reducing the occurrence of HAIs is to estimate accurately the burden of these infections in U.S. hospitals, and to describe the types of HAIs and causative organisms. The scope and magnitude of HAIs in the United States were last directly estimated in the 1970s by CDC's Study on the Efficacy of Nosocomial Infection Control (SENIC), in which comprehensive data were collected from a sample of 338 hospitals; 5% of hospitalized patients acquired an infection not present at the time of admission. Because of the substantial resources necessary to conduct hospital-wide surveillance in an ongoing manner, most of the more than 4,500 hospitals now reporting to the CDC's current HAI surveillance system, the National Healthcare Safety Network (NHSN 0920-0666 expires 1/31/15), focus instead on device-associated and procedure-associated infections in a selected patient locations, and do not report data on all types of HAIs occurring hospital-wide. Periodic assessments of the magnitude and types of HAIs occurring in all patient populations within acute care hospitals are needed to inform decisions by local and national policy makers and by hospital infection control personnel regarding appropriate targets and strategies for HAI prevention. Such assessments can be obtained in periodic national prevalence surveys, such as those that have been conducted in several European countries.

In 2008-2009, CDC developed a pilot protocol for a HAI point prevalence survey, conducted over a 1-day period at each of 9 acute care hospitals in one U.S. city. This pilot phase was followed in 2010 by a phase 2, limited roll-out HAI and antimicrobial use prevalence survey, conducted during July and August in 22 hospitals across 10 Emerging Infections Program sites (in California, Colorado, Connecticut, Georgia, Maryland, Minnesota, New Mexico, New York, Oregon, and Tennessee). Experience gained in the phase 1 and phase 2 surveys was used to conduct a full-scale, phase 3 survey in 2011, involving 183 hospitals in the 10 EIP sites. Over 11,000 patients were surveyed, and analysis of HAI and antimicrobial use data is ongoing at this time. Preliminary HAI prevalence results were presented at the 52nd Interscience Conference on Antimicrobial Agents and Chemotherapy (San Francisco, CA, September 8-12, 2012) and preliminary antimicrobial use results were presented at the 2012 IDWeek conference (San Diego, CA, October 17-21, 2012).

An extension of the prevalence survey's existing OMB approval is sought, to allow a repeat HAI and antimicrobial use prevalence survey to be performed in 2014. A repeat survey will allow further refinement of survey methodology and assessment of changes over time in prevalence, HAI distribution, and pathogen distribution. It will also allow for a re-assessment of the burden of antimicrobial use, at a time when antimicrobial stewardship is an area of active engagement in many acute care hospitals. The 2014 survey will be performed in a sample of up to 500 acute care hospitals, drawn from the acute care hospital populations in each of the 10 EIP sites (and including participation from many hospitals that participated in prior phases of the survey). Infection prevention personnel in participating hospitals and EIP site personnel will collect demographic and clinical data from the medical records of a sample of eligible patients in their hospitals on a single day in 2014, to identify CDC-defined HAIs. The surveys will provide data for CDC to make estimates of the prevalence of HAIs across this sample of U.S. hospitals as well as the distribution of infection types and causative organisms. These data can be used to work toward reducing and eliminating healthcare-associated infections—a DHHS Healthy People 2020 objective (http://www.healthypeople.gov/2020/topicsobjectives2020/overview.aspx?topicid=17). This survey project also supports the CDC Winnable Battle goal of improving national surveillance for healthcare-associated infections (http://www.cdc.gov/winnablebattles/Goals.html).

The total burden is 9,375 hours, which represents an increase of 250 hours over the previously approved burden. The increase is requested because the median number of responses per respondent in the 2011 phase 3 survey was 75. Previously, we had estimated 73 responses per respondent. There are no costs to respondents. The total estimated annualized burden is 9,375.

Estimated Annualized Burden Hours
Respondents | Number of respondents | Number of responses per respondent | Average burden per response in hours
Infection Prevention Personnel in Participating Hospitals | 500 | 75 | 15/60

*Assumptions: One respondent per hospital, collection of data on median of 75 patients per hospital, average data collection time of 15 minutes per patient.

Kimberly S. Lane,
Deputy Director, Office of Scientific Integrity, Office of the Associate Director for Science, Office of the Director, Centers for Disease Control and Prevention.

[FR Doc. 2013-04508 Filed 2-26-13; 8:45 am]

BILLING CODE 4163-18-P